DEPARTMENT OF STATE

[Public Notice 7065]

Intergovernmental Panel on Climate Change Special Report Review

ACTION: The United States Global Change Research and Climate Change Technology Programs request expert review of the Special Report on Renewable Energy Sources and Climate Change Mitigation (SRREN) of the Intergovernmental Panel on Climate Change (IPCC).

SUMMARY: The IPCC was established as an intergovernmental body under the auspices of the United Nations Environment Programme (UNEP) and the World Meteorological Organization (WMO) in 1988. In accordance with its mandate and as reaffirmed in various decisions by the Panel, the major activity of the IPCC is to prepare comprehensive and up-to-date assessments of policy-relevant scientific, technical, and socio-economic information for understanding the scientific basis of climate change, potential impacts, and options for mitigation and adaptation. More information about the IPCC can be found at http://www.ipcc.ch.

The IPCC develops a comprehensive assessment spanning all the above topics approximately every six years. In addition to these comprehensive assessments, the IPCC periodically develops Special Reports on specific topics. Preparation of Special Reports follows the same procedures as for the Assessment Reports. Governments develop and approve plans for reports, and nominate scientists and experts as lead authors and reviewers. Authors prepare the reports, which go through several stages of review, following which they are accepted by member governments at a session of the IPCC. Member governments also approve the executive summaries of the reports (known as a “summary for policy makers”) in detail at the time that they accept the overall report. Principles and procedures for the IPCC and its preparation of reports can be found at the following Web sites (http://www.ipcc.ch/pdf/ipcc-principles/ipcc-principles.pdf; http://www.ipcc.ch/organization/organization_procedures.htm).

In April 2008, the IPCC approved the development of a Special Report on Renewable Energy Sources and Climate Change Mitigation (SRREN). The SRREN is being developed under the leadership of the IPCC Working Group III. This Special Report aims to provide a better understanding and broader information on the mitigation potential of renewable energy sources. More information on the report can be found at: http://www.ipcc-wg3.de/publications/special-reports.

All IPCC reports go through two broad reviews: A “first-order draft” for experts, and a “second-order draft” for experts and governments. The IPCC Secretariat has informed the U.S. Department of State that the second-order draft of the SRREN is available for expert and government review. The report is structured with technology chapters—bio-energy, direct solar energy, geothermal energy, hydropower, ocean energy and wind energy—which feed into overarching chapters. A system integration chapter brings different aspects of energy demand and supply together. The report also considers the policy options, outcomes and conditions for effectiveness, and how accelerated deployment could be achieved in a sustainable manner. Capacity building, technology transfer and financing in different regions are also assessed.

As part of the U.S. Government Review of the SRREN, the U.S. Government is soliciting comments from experts in relevant fields of expertise. The Global Change Research Program and Climate Change Technology Program Offices will coordinate collection of U.S. expert comments and the review of the report by panels of Federal scientists and program managers in order to develop a consolidated U.S. Government submission. Expert comments received within the comment period will be considered for inclusion in the U.S. Government submission. Instructions for review and submission of comments are available at http://www.globalchange.gov/srrenreview.

To be considered for inclusion in the U.S. Government collation, comments must be received by midnight July 18th, 2010. Comments submitted for consideration as part of the U.S. Government Review should be reserved for that purpose, and not also sent to the IPCC Secretariat as a discrete set of expert comments. Comments should be submitted using the Web-based system at: http://www.globalchange.gov/srrenreview.

For further information, please contact David Allen, U.S. Global Change Research Program, Suite 250, 1717 Pennsylvania Ave., NW., Washington, DC 20006 (http://www.climatescience.gov).

Dated: June 16, 2010.
Trigg Talley,
Office Director, Office of Global Change, Department of State.

[FR Doc. 2010-14908 Filed 6-18-10; 8:45 am]

BILLING CODE 4710-09-P